DEPARTMENT OF JUSTICE

Bureau of Alcohol, Tobacco, Firearms and Explosives

[OMB 1140-0010]

Agency Information Collection Activities; Proposed eCollection of eComments Requested; Application To Transport Interstate or Temporarily Export Certain National Firearms Act (NFA) Firearms—ATF Form 5320.20

AGENCY: Bureau of Alcohol, Tobacco, Firearms and Explosives, Department of Justice.

ACTION: 60-Day notice.

SUMMARY: The Bureau of Alcohol, Tobacco, Firearms and Explosives (ATF), Department of Justice (DOJ), will submit the following information collection request to the Office of Management and Budget (OMB) for review and approval in accordance with the Paperwork Reduction Act of 1995. The proposed collection OMB 1140-0010 (Application to Transport Interstate or Temporarily Export Certain National Firearms Act (NFA) Firearms—ATF Form 5320.20) is being revised due to an increase in the total respondents, responses, and burden hours since the last renewal in 2019. The proposed information collection (IC) is also being published to obtain comments from the public and affected agencies.

DATES: Comments are encouraged and will be accepted for 60 days until October 24, 2022.

FOR FURTHER INFORMATION CONTACT: If you have additional comments regarding the estimated public burden or associated response time, suggestions, or need a copy of the proposed information collection instrument with instructions, or additional information, contact: Connor Brandt, National Firearms Act Division either by mail at 244 Needy Road, Martinsburg, WV 25405, by email at nfaombcomments@atf.gov, or by telephone at 304-616-4594.

SUPPLEMENTARY INFORMATION: Written comments and suggestions from the public and affected agencies concerning the proposed collection of information are encouraged. Your comments should address one or more of the following four points:

• Evaluate whether the proposed collection of information is necessary for the proper performance of the functions of the agency, including whether the information will have practical utility;

• Evaluate the accuracy of the agency's estimate of the burden of the proposed collection of information, including the validity of the methodology and assumptions used;

• Evaluate whether and, if so, how the quality, utility, and clarity of the information to be collected can be enhanced; and

• Minimize the burden of the collection of information on those who are to respond, including through the use of appropriate automated, electronic, mechanical, or other technological collection techniques or other forms of information technology, e.g., permitting electronic submission of responses.

Overview of This Information Collection

1. Type of Information Collection: Revision of a Currently Approved Collection.

2. The Title of the Form/Collection: Application to Transport Interstate or Temporarily Export Certain National Firearms Act (NFA) Firearms.

3. The agency form number, if any, and the applicable component of the Department sponsoring the collection:

Form number: ATF Form 5320.20.

Component: Bureau of Alcohol, Tobacco, Firearms and Explosives, U.S. Department of Justice.

4. Affected public who will be asked or required to respond, as well as a brief abstract:

Primary: Individuals or households.

Other (if applicable): Business or other for-profit, Federal Government, State Local or Tribal Government.

Abstract: The Application to Transport Interstate or Temporarily Export Certain National Firearms Act (NFA)—ATF Form 5320.20 is used by persons other than a qualified Federal firearms licensee, to request approval to transport interstate or temporarily export certain NFA firearms.

5. An estimate of the total number of respondents and the amount of time estimated for an average respondent to respond: An estimated 20,000 respondents will respond to this collection once annually, and it will take each respondent approximately 20 minutes to complete their responses.

6. An estimate of the total public burden (in hours) associated with the collection: The estimated annual public burden associated with this collection is 6,667 hours, which is equal to 20,000 (total respondents) * 1 (# of response per respondent) * .333333 (20 minutes or the time taken to prepare each response).

7. An Explanation of the Change in Estimates: Due to more filings of this application, both the total respondents and responses to this collection have increased from 17,000 in 2019 to 20,000 in 2022. Consequently, the total burden hours have also increased from 5,610 to 6,667 hours since the last renewal.

If additional information is required contact: Robert Houser, Assistant Director, Policy and Planning Staff, Office of the Chief Information Officer, Justice Management Division, United States Department of Justice, Two Constitution Square, 145 N Street NE, 3E-206, Washington, DC 20530.

Dated: August 18, 2022,
Robert J. Houser,
Assistant Director, Policy and Planning Staff, Office of the Chief Information Officer, U.S. Department of Justice.

[FR Doc. 2022-18120 Filed 8-22-22; 8:45 am]

BILLING CODE 4410-FY-P